DEPARTMENT OF TRANSPORTATION

Federal Highway Administration

Environmental Impact Statement; Merced County, CA

AGENCY: Federal Highway Administration (FHWA) DOT.

ACTION: Notice of intent.

SUMMARY: The FHWA is issuing this notice to advise the public that an environmental impact statement will be prepared for a proposed highway project in Merced County, California.

FOR FURTHER INFORMATION CONTACT: Glenn Clinton, Team Leader, Program Delivery Team—North, California Division, Federal Highway Administration, 980 9th Street, Suite 400, Sacramento, CA 95814-2724.

SUPPLEMENTARY INFORMATION: The Federal Highways Administration, in coordination with the California Department of Transportation (Caltrans), will prepare an Environmental Impact Statement (EIS) on a proposal to build a bypass in the vicinity of the City of Los Banos in Merced County, California, in order to improve the flow of traffic on State Route 152 and reduce congestion within the city. This bypass would begin at Post Mile 16, east of Volta Road, and end approximately at Post Mile 25. State Route 152 serves as a major east-west link between the major north-south roadways of State Route 99, State Route 101, and Interstate 5. Currently the flow of traffic along State Route 152 must slow as it enters the City of Los Banos. Because State Route 152 currently passes through the center of the City of Los Banos, considerable traffic congestion would be relieved by construction of a bypass around the City. The proposed project is a 4-lane freeway on a 6-lane alignment.

Four alternatives are being considered at this time: three build alternatives and a No Action Alternative (Alternative 4). All build alternatives would realign State Route 152 so that the route would bypass the City of Los Banos. Alternatives 1 and 2 would follow an alignment south of the City of Los Banos. Alternative 1 would parallel north of Copa De Ora Avenue and Alternative 2 would parallel south of Pioneer Road. Alternative 3 would follow an alignment to the north of the City of Los Banos.

Letters describing the proposed action and soliciting comments were sent to the appropriate Federal, State, and local agencies, and to private organizations and citizens who have expressed or are known to have interest in this proposal. The Public Participation Program for this study includes community information meetings (the first was held August 24, 2000), and a formal Public Hearing in the summer of 2002.

To ensure that the full range of issues related to this proposed action is addressed, and all significant issues identified, comments and suggestions are invited from all interested parties. If you have any information regarding historic resources, endangered species, or other sensitive issues, which could be affected by this project, please notify this office. Comments or questions concerning this proposed action and the EIS should be directed to the FHWA at the address provided above. (Catalog of Federal Domestic Assistance Program Number 20.205, Highway Research, Planning, and Construction. The regulations implementing Executive Order 12372 regarding intergovernmental consultation on Federal programs and activities apply to this program.)

Issued on: March 29, 2001.
Glenn Clinton,
Team Leader, Program Delivery Team—North, Sacramento, California.

[FR Doc. 01-8412 Filed 4-4-01; 8:45 am]

BILLING CODE 4910-22-M